DEPARTMENT OF COMMERCE

National Oceanic and Atmospheric Administration

[RTID 0648-XA756]

North Pacific Fishery Management Council; Public Meeting

AGENCY: National Marine Fisheries Service (NMFS), National Oceanic and Atmospheric Administration (NOAA), Commerce.

ACTION: Notice of a public meeting.

SUMMARY: The North Pacific Fishery Management Council's (Council) Halibut and Sablefish Individual Fishing Quota Committee (IFQ Committee) will meet via web conference March 25, 2021 through March 26, 2021.

DATES: The meeting will be held on Thursday, March 25, 2021 through Friday, March 26, 2021, from 9 a.m. to 4 p.m., Alaska Time.

ADDRESSES: The meeting will be a web conference. Join online through the link at https://meetings.npfmc.org/Meeting/Details/1853.

Council address: North Pacific Fishery Management Council, 1007 W 3rd Ave, Anchorage, AK 99501-2252; telephone (907) 271-2809. Instructions for attending the meeting via video conference are given under SUPPLEMENTARY INFORMATION, below.

FOR FURTHER INFORMATION CONTACT: Sam Cunningham, Council staff; phone; (907) 271-2809; email: sam.cunningham@noaa.gov. For technical support please contact our admin Council staff, email: npfmc.admin@noaa.gov.

SUPPLEMENTARY INFORMATION:

Agenda

Thursday, March 25, 2021 through Friday, March 26, 2021

The IFQ Committee agenda will include the review of a discussion paper on a proposal to promote access to the IFQ fisheries, a report of the use of longline pot gear in the Gulf of Alaska sablefish IFQ fishery, an opportunity to provide feedback on a new annual fishery status report from National Marine Fisheries Service, a stakeholder proposal to allow jig gear for use in the IFQ fisheries, and discussion of recommendations for future tasking and prioritization of actions relating to the IFQ program. The committee may also address other items of business as necessary. The agenda is subject to change, and the latest version will be posted at https://meetings.npfmc.org/Meeting/Details/1853 prior to the meeting, along with meeting materials.

Connection Information

You can attend the meeting online using a computer, tablet, or smart phone; or by phone only. Connection information will be posted online at: https://meetings.npfmc.org/Meeting/Details/1853.

Public Comment

Public comment letters will be accepted and should be submitted electronically to https://meetings.npfmc.org/Meeting/Details/1853.

Authority: 16 U.S.C. 1801 et seq.

Dated: January 11, 2021.
Rey Israel Marquez,
Acting Deputy Director, Office of Sustainable Fisheries, National Marine Fisheries Service.

[FR Doc. 2021-00717 Filed 1-13-21; 8:45 am]

BILLING CODE P